DEPARTMENT OF LABOR

Employment and Training Administration

Comment Request for Information Collection for the ETA 227, Overpayment Detection and Recovery Activities, Extension Without Revision

AGENCY: Employment and Training Administration (ETA), Labor.

ACTION: Notice.

SUMMARY: The Department of Labor, as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps to ensure that requested data can be provided in the desired format, reporting burden (time and financial resources) is minimized, collection instruments are clearly understood, and the impact of collection requirements on respondents can be properly assessed.

Currently, ETA is soliciting comments concerning the collection of data about the ETA 227, Overpayment Detection and Recovery Activities. The Unemployment Insurance (UI) program paid approximately $46 billion in benefits in FY 2013. Collecting data through ETA 227 allows us to measure the effectiveness of the benefit payment control programs in the State Workforce Agencies (SWA). The current expiration date is August 31, 2014.

DATES: Written comments must be submitted to the office listed in the addresses section below on or before April 7, 2014.

ADDRESSES: Submit written comments to Ericka Parker, Office of Unemployment Insurance, Employment and Training Administration, U.S. Department of Labor, 200 Constitution Avenue NW., Frances Perkins Bldg. Room S-4519, Washington, DC 20210. Telephone number: 202-693-3208 (this is not a toll-free number). Individuals with hearing or speech impairments may access the telephone number above via TTY by calling the toll-free Federal Information Relay Service at 1-877-889-5627 (TTY/TDD). Email: parker.ericka@dol.gov. A copy of the proposed information collection request (ICR) can be obtained by contacting the person listed above.

SUPPLEMENTARY INFORMATION:

I. Background

Section 303(a)(1) of the Social Security Act requires a state's unemployment insurance UI law to include provisions for:

Such methods of administration . . . as are found by the Secretary of Labor to be reasonably calculated to insure full payment of unemployment compensation when due . . .

Section 303(a)(5) of the Social Security Act further requires a state's UI law to include provisions for:

Expenditure of all money withdrawn from an unemployment fund of such State, in the payment of unemployment compensation . . .

Section 3304(a)(4) of the Internal Revenue Code of 1954 provides that:

all money withdrawn from the unemployment fund of the State shall be used solely in the payment of unemployment compensation . . .

The Secretary of Labor has interpreted the above sections of federal law in Section 7511, Part V, ES Manual to further require a state's UI law to include provisions for such methods of administration as are, within reason, calculated to: (1) Detect benefits paid through error by the SWA or through willful misrepresentation or error by the claimant or others; (2) deter claimants from obtaining benefits through willful misrepresentation; and (3) recover benefits overpaid. The ETA 227 is used to determine whether SWAs meet these requirements.

The ETA 227 contains data on the number and amounts of fraud and non-fraud overpayments established, the methods by which overpayments were detected, the amounts and methods by which overpayments were collected, the amounts of overpayments waived and written off, the accounts receivable for overpayments outstanding, and data on criminal/civil actions. These data are gathered by 53 SWAs and reported to the Department of Labor following the end of each calendar quarter. The overall effectiveness of SWAs' UI integrity efforts can be determined by examining and analyzing the data. These data are also used by SWAs as a management tool for effective UI program administration.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension without revision.

Title: Overpayment Detection and Recovery Activities.

OMB Number: 1205-0187.

Affected Public: State workforce agencies.

Estimated Total Annual Respondents: 53 state agencies.

Annual Frequency: Quarterly.

Estimated Total Annual Responses: 212.

Average Time per Response: 14 hours.

Estimated Total Burden Hours: 2,968.

Total Estimated Annual Other Cost Burden: $0.

Comments submitted in response to this comment request will be summarized and/or included in the request for OMB approval of the ICR; they will also become a matter of public record.

Dated: January17, 2014.
Eric M. Seleznow,
Acting Assistant Secretary for Employment and Training, Labor.

[FR Doc. 2014-02435 Filed 2-4-14; 8:45 am]

BILLING CODE 4510-FW-P